DEPARTMENT OF HEALTH AND HUMAN SERVICES

Health Care Financing Administration

[HCFA-3002-N]

RIN 0938-AI96

Medicare Program; Application Process for National Organizations To Obtain Deeming Authority for Diabetes Self-Management Training Programs

AGENCY: Health Care Financing Administration (HCFA), HHS.

ACTION: Notice.

SUMMARY: This notice announces that we will accept applications from national accreditation organizations with demonstrated experience in representing the interests of individuals with diabetes that seek deeming authority to approve entities to furnish diabetes self-management training.

EFFECTIVE DATE: This notice is effective on January 29, 2001.

FOR FURTHER INFORMATION CONTACT:

Joan A. Brooks, (410) 786-5526 or jbrooks@hcfa.gov, or

Eva Fung (410) 786-7539 or efung@hcfa.gov.

ADDRESSES: Mail applications to the following address: Department of Health and Human Services, Health Care Financing Administration, Attention: Joan A. Brooks or Eva Fung, Office of Clinical Standards and Quality, Clinical Standards Group, Mail Stop: S3-02-01, 7500 Security Boulevard, Baltimore, Maryland 21244-1850.

SUPPLEMENTARY INFORMATION:

I. Background

Section 4105(a) of the Balanced Budget Act of 1997 (BBA) (Pub. L. 105-33, enacted on August 5, 1997) provides coverage of outpatient diabetes self-management training furnished to beneficiaries with diabetes by entities deemed to meet certain quality standards. (For purposes of this notice, we are using the term “training” to mean outpatient diabetes self-management training.) We have published a final rule elsewhere in this Federal Register that provides for expanded coverage of the training. An entity may receive Medicare payment for furnishing training if the entity is accredited by a national accreditation organization that we have approved as having deeming authority and that meets certain other conditions for payment. Section 1865(b) of the Act authorizes us to approve and to recognize certain national accreditation organizations and their accreditation programs to accredit entities that furnish training. In these cases, we will deem the accredited entities to have met or exceeded the applicable set of quality standards.

In order to ensure access to expanded quality services while accrediting organizations are being approved (as discussed in the preamble to the final rule), for the first 18 months after the effective date of the final rule we may deem an entity to meet the National Standards for Diabetes Self-Management Education Program (NSDSMEP) quality standards described in 42 CFR 410.144(b). Under § 410.145(a)(2), an entity that currently meets the NSDSMEP must provide the Medicare contractor that will process its claims a copy of the current certificate the entity received from the American Diabetes Association (ADA) that verifies the training program it furnishes meets the NSDSMEP quality standards described in § 410.144(b).

All organizations (including the ADA) may apply to HCFA to become a national accreditation organization at any time after January 29, 2001 according to the procedure specified in § 410.142 of the final rule. We will strive to review and approve the applications as expeditiously as possible. We expect that after the initial 18 month period expires, there could be several accrediting organizations thereby eliminating any access concerns.

II. Applications

Section 410.142 of the final rule (published elsewhere in this Federal Register) sets forth conditions and procedures for granting deeming authority to a national accreditation organization. We wish to emphasize that § 410.142(b) requires an organization that does not use the quality standards described in § 410.144(a) or (b) to prepare a detailed comparison, including a crosswalk that compares its quality standards to the HCFA quality standards described in § 410.144(a). For consideration of its application, a national organization that seeks deeming authority to approve entities to furnish training should submit an application, including all information required by § 410.142(b), to the address specified in the ADDRESSES section of this notice. We will accept and review applications we receive (as of the effective date of this notice) from a national accreditation organization that seeks deeming authority for training programs.

This notice announces that we will accept applications before the effective date of the final diabetes self-management training rule (published elsewhere in this Federal Register), but we will not process them until the final rule becomes effective.

III. Waiver of Proposed Notice

In adopting notices such as this, we ordinarily publish a proposed notice in the Federal Register to provide a period for public comment before the provisions of the notice take effect. However, we may waive this procedure if for good cause we find that prior notice and comment are impracticable, unnecessary or contrary to public interest (5 U.S.C. 553(b)(B)). Section 1865(b)(3)(A) of the Act specifies that the Secretary will consider accreditation organizations' written requests for a grant of deeming authority. Following the statute, in our final rule on diabetes self-management training (published elsewhere in this Federal Register), we have developed a procedure for considering these requests. This final rule is being published after notice and comment. Therefore, because notice and an opportunity for comment were provided in the accompanying rule, and because this notice exercises no discretion, we find that it is unnecessary to provide a separate notice and comment period.

Authority: Section 1865(b) of the Social Security Act (42 U.S.C. 1395bb).

(Catalog of Federal Domestic Assistance Program No. 93.773 Medicare—Hospital Insurance Program and No. 93.774, Medicare—Supplementary Medical Insurance Program)

Dated: November 22, 2000.
Michael M. Hash,
Acting Administrator, Health Care Financing Administration.

[FR Doc. 00-32704 Filed 12-28-00; 8:45 am]

BILLING CODE 4120-01-P